DEPARTMENT OF THE INTERIOR

Fish and Wildlife Service

[FWS-R4-R-2008-N0006; 40136-1265-0000-S3]

Lake Woodruff National Wildlife Refuge, Volusia and Lake Counties, FL

AGENCY: Fish and Wildlife Service, Interior.

ACTION: Notice of availability: Draft comprehensive conservation plan and environmental assessment; request for comments.

SUMMARY: We, the U.S. Fish and Wildlife Service (Service) announce the availability of a draft comprehensive conservation plan and environmental assessment (Draft CCP/EA) for the Lake Woodruff National Wildlife Refuge for public review and comment. In this Draft CCP/EA, we describe alternatives, including our proposed action to manage this refuge for the 15 years following approval of the Final CCP. Also available for review and comment are draft compatibility determinations.

DATES: To ensure consideration, we must receive your written comments by May 23, 2008.

ADDRESSES: To provide written comments or to obtain a copy of the Draft CCP/EA, please contact Cheri Ehrhardt, Area Planner, Merritt Island National Wildlife Refuge, P.O. Box 6504, Titusville, FL 32782; or you may e-mail: LakeWoodruffCCP@fws.gov. A copy of the Draft CCP/EA is available on compact diskette or hard copy. The Draft CCP/EA may also be accessed and downloaded from the Service's Internet site: http://www.fws.gov/southeast/planning.

FOR FURTHER INFORMATION CONTACT: Cheri Ehrhardt; Telephone: 321/861-0667.

SUPPLEMENTARY INFORMATION:

Introduction

With this notice, we continue the CCP process for the Lake Woodruff National Wildlife Refuge. We started this process through a notice in the Federal Register on July 26, 2006 (71 FR 42412).

Lake Woodruff National Wildlife Refuge was established in 1964. This 21,500-acre refuge is comprised of approximately 11,100 acres of freshwater marsh; 7,200 acres of hardwood swamps; 2,400 acres of uplands; and more than 800 acres of lakes, streams, and canals. The refuge also has an additional 652 acres of conservation easement lands on two tracts. The primary purpose of the refuge is for the protection of migratory birds.

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Public scoping began in July 2006. Issues identified by the public, intergovernmental partners, and the Service include: Impacts of human population growth and increased development adjacent to the refuge boundary; threats and impacts to listed species and migratory birds; lack of a comprehensive habitat management program; spread of exotic, invasive, and nuisance species; lack of baseline data and coordinated research; need for enhanced interagency coordination; need for cooperative management agreements with the State for navigable (State-owned) waterways on the refuge; and lack of sufficient access onto refuge properties.

CCP Actions We Are Considering, Including Proposed Action

We developed four alternatives for managing the refuge and chose Alternative D as the proposed action. A full description of each alternative is in the Draft CCP/EA. We summarize each alternative below:

Under Alternative A, current management of the refuge would continue. The refuge would continue to survey, maintain habitats, and limit disturbance to threatened and endangered species. The refuge would survey, monitor, and maintain habitat to benefit migratory birds, including waterfowl, shorebirds, wading birds, marsh birds, and landbirds. It would coordinate with other agencies to control aquatic weeds in the navigable waters. There would be incidental feral hog control as part of the deer hunting program. Forest management activities would maintain upland pine and bottomland hardwood habitats. The refuge would manage 450 acres of impoundments and 11,000 acres of freshwater marshes. Upland sheet flow restoration efforts would continue. Under this alternative, resource protection would not change. Limited archaeological surveys would be conducted as part of timber sales. The refuge would continue to increase safety at the main access railroad crossing and maintain the access road. The visitor services' program would not be expanded. Deer and feral hog hunting opportunities would be maintained at current levels. Turkey surveys would be conducted to determine population status. Fishing opportunities would be maintained. As part of wildlife and photography, the refuge would maintain an observation tower, interpretive trails, hiking trails, and a photo-blind. Horseback riding would continue on the Volusia Tract, and commercial guided boat tours would be conducted via special use permits. The refuge would conduct 15 environmental and interpretive programs annually. Friends group membership and volunteer levels would remain the same. Refuge administration would remain the same with the following six employees: refuge manager, biologist, fire specialist, engineering equipment operator, and forestry technician (2 career-seasonal employees).

Under Alternative B, wildlife and habitat management would increase. The refuge would evaluate the expansion of impoundments to provide more habitats for waterfowl, shorebirds, and wading birds. The refuge would limit public access to certain areas to decrease disturbance. It would intensively survey and monitor migratory birds. Manipulation of water levels in the impoundments would favor native plant species, and the refuge would focus exotic plant control to support migratory birds. Feral hog and coyote management would be the same as under Alternative A. Habitats would be restored to support migratory birds through prescribed fire and forest thinning. The refuge would work with partners to ensure water quality, quantity, minimum flows and levels, and natural hydrology to support migratory birds. The refuge would work to develop cooperative management agreements with the State for the navigable waters on the refuge. It would conduct a refuge boundary survey. Under Alternative B, resource protection would increase. Archaeological resources would be managed the same as under Alternative A. The refuge would evaluate the need to improve the access road. Alternative B would expand visitor services. Hunting and fishing opportunities would be increased, but the refuge would ensure that these activities do not impact migratory birds. The refuge would seasonally close key areas to the public to limit disturbance to migratory birds and eliminate horseback riding. It would incorporate migratory bird themes into commercial guided tour messages. The refuge would develop on- and off-site education and interpretive programs with messages focused on migratory birds and the minimization of human impacts. It would train staff, volunteers, teachers, and tour operators to incorporate interpretive themes into programs. Refuge administration would expand under Alternative B. In addition to the 6 positions listed under Alternative A, the following positions would be added for a total of 15 positions: Wildlife specialist (assistant refuge manager), office assistant, biologist, biological science technician (2), maintenance worker (2), law enforcement officer, and park ranger.

Under Alternative C, management would focus on the needs of rare, threatened, and endangered species. More areas on the refuge would be seasonally closed to limit disturbance to priority species. Management of migratory birds would be decreased as the impoundment acreage would decline to support certain listed species. Exotic species control would benefit listed species. Upland and bottomland forest management would focus on the needs of listed species. The refuge would work with partners to conduct herpetological and fish surveys and to protect water resources to support listed species. Archaeological resources would be managed as under Alternative A. The refuge would evaluate the need to improve the access road. It would work with partners to protect wildlife crossing the railroad tracks. Under Alternative C, visitor services would be reduced. The refuge would ensure that hunting and fishing do not impact listed species. The refuge would seasonally close key areas to the public to limit disturbance to listed species and would eliminate horseback riding. It would incorporate listed species conservation themes into commercial guided tour messages. The refuge would develop on- and off-site education and interpretive programs with messages focused on listed species and the minimization of human impacts. It would train staff, volunteers, teachers, and tour operators to incorporate interpretive themes into programs. Friends and volunteer levels and efforts would be increased and focused on the needs of listed species. Refuge administration would expand under Alternative C. In addition to the 6 positions listed under Alternative A, the following positions would be added for a total of 18 positions: Wildlife specialist (assistant refuge manager), office assistant, biologist (2), biological science technicians (2), non-fire forestry technician, maintenance worker (2), law enforcement officer (2), and park ranger.

Under Alternative D, the proposed alternative, wildlife and habitat diversity would be emphasized. This alternative would expand wildlife and habitat management efforts on the refuge. Some key areas would be seasonally closed to the public to limit disturbance to rare, threatened, and endangered species, as well as to protect vulnerable habitats. For migratory birds, the refuge would intensively survey, monitor, and manage the impoundments for multi-species use. Exotic species control efforts would be similar to Alternatives B and C in the level of effort but the focus would be on maintaining biodiversity. The refuge would work with the State to determine the impacts of coyotes. If feral hog control measures become necessary, trapping would be considered. Upland habitats would be managed for biodiversity. Herpetological and fish surveys and monitoring efforts would increase. The refuge would work with the State to develop appropriate cooperative management agreements for the navigable waters on the refuge. A refuge boundary survey would be conducted. The refuge would conduct a complete archaeological survey, and develop a regular patrol and enforcement program. With regards to the railroad, the refuge would work with partners to protect wildlife movement across the railroad tracks. It would evaluate the need to improve the road and determine alternative access routes onto the refuge. Visitor services would expand under this alternative but the refuge would ensure that hunting and fishing do not impact wildlife and habitat diversity. It would evaluate the potential for turkey hunting. It would continue to allow horseback riding on the Volusia Tract through special use permits. Biodiversity themes would be incorporated into commercial guided tour messages. The refuge would develop on- and off-site education and interpretive programs, with messages focused on biodiversity and the minimization of human impacts. The refuge would train staff, volunteers, teachers, and tour operators to incorporate interpretive themes into programs. It would increase Friends group and volunteer efforts to support wildlife and habitat diversity. As part of refuge administration, the refuge would include maintenance programs in support of biodiversity and biological integrity. In addition to the 6 positions listed under Alternative A, the following positions would be added for a total of 11 positions: Wildlife specialist (assistant refuge manager), biological science technician, maintenance worker, law enforcement officer, and park ranger.

Public Availability of Comments

Before including your address, phone number, e-mail address, or other personal identifying information in your comment, you should be aware that your entire comment, including your personal identifying information, may be made publicly available at any time. While you can ask us in your comment to withhold your personal identifying information from public review, we cannot guarantee that we will be able to do so.

Next Step

After the comment period ends for the Draft CCP/EA, we will analyze the comments and address them in the form of a Final CCP and Finding of No Significant Impact.

Authority: This notice is published under the authority of the National Wildlife Refuge System Improvement Act of 1997, Public Law 105-57.

Dated: February 13, 2008.
Cynthia K. Dohner,
Acting Regional Director.

[FR Doc. E8-8760 Filed 4-22-08; 8:45 am]

BILLING CODE 4310-55-P